DEPARTMENT OF AGRICULTURE

Forest Service

Additional 68.59 Acres Added to Ouachita Purchase Unit, Arkansas

AGENCY: Forest Service, USDA.

ACTION: Notice.

SUMMARY: The Secretary of Agriculture has added 68.59 acres in Garland County Arkansas to the Ouachita Purchase Unit, Arkansas. A copy of the document, which includes the legal descripton of the lands added to the purchase unit, appears at the end of this notice.

DATES: The addition of these lands to the existing Ouachita Purchase Unit was effective February 6, 2004.

ADDRESSES: A copy of the map depicting the lands added to the Ouachita Purchase Unit is on file and available for public inspection in the Office of the Director, Lands Staff, 4th Floor—Sidney R. Yates Federal Building, Forest Service, USDA, 201 14th Street, SW., Washington, DC 20250, between the hours of 8:30 a.m. and 4:30 p.m. on business days. Those wishing to inspect the maps are encouraged to call ahead to (202) 205-1248 to facilitate entry into the building.

FOR FURTHER INFORMATION CONTACT: Gregory Smith, Acting Director, Lands Staff, Forest Service, USDA, 201 14th Street, SW., Washington DC 20250 telephone: (202) 205-1248.

SUPPLEMENTARY INFORMATION: Pursuant to the Secretary of Agriculture's authority under Section 17, Pub. L. 94-588 (90 Stat. 2949), 68.59 acres were added to the Ouachita Purchase Unit, Arkansas.

Dated: March 8, 2004.
Gloria Manning,
Associate Deputy Chief, National Forest System.

Proposed Addition to the Ouachita Purchase Unit

The following described lands lying adjacent or proximate to the Ouachita National Forest are determined to be suitable for the protection of the watersheds of navigable streams and for other purposes in accordance with section 6 of Weeks Act of 1911 (16 U.S.C. 515). Therefore, in furtherance of the authority of the Secretary of Agriculture pursuant to the Weeks Act of 1911, as amended, including Section 17 of the National Forest Management Act of 1976 (Pub. L. 94-588; 90 Stat. 2961), these lands are hereby added to the Ouachita Purchase Unit.

Garland County, Arkansas, Fifth Principal Meridian Township 1 North, Range 19 West

Section 30

NE¼NE¼ lying East of Arkansas State Highway #7 and west of Weyerhaeuser Road # 20020, as surveyed by Roy H. Black, RLS #690, recorded in Book T, Page 17 of the survey plat records of Garland County, Arkansas, on March 5, 2003; AND SE¼NE¼ lying East of Arkansas State Highway #7 LESS AND EXCEPT a 1.48 acre tract of land described as follows: Beginning at a capped ¾″ rebar at the Northeast corner of said SE¼NE¼, run South 0°16′31″ East 938.47 feet along the East line of said SE¼NE¼ to a capped ¾″ rebar 20.00 feet West of the center of a paved drive; Thence Northerly along a line 20.00 feet West of the center of said paved drive the following courses and distances:

North 24°04′18″ West 201.06 feet;

North 25°04′26″ West 112.44 feet;

North 20°13′32″ West 44.31 feet;

North 6°48′35″ West 43.15 feet;

North 9°48′00″ East 47.67 feet;

and North 31°34′03″ East 111.69 feet to a capped ¾″ rebar;

Thence leaving said paved drive North 10°29′39″ East 433.73 feet to the Point of Beginning, as surveyed by Roy H. Black, RLS #690, recorded in Book T, Page 17 of the survey plat records of Garland County, Arkansas on March 5, 2003.

West 273.33 yards of the NE¼SE¼, as surveyed by Roy H. Black, RLS #690, recorded in Book T, Page 17 of the survey plat records of Garland County, Arkansas on March 5, 2003, LESS AND EXCEPT a 2.94 acre tract of land described in Book 736, Page 587 of the deed records of Garland County, Arkansas and LESS AND EXCEPT a 2.07 acre tract of land described in Book 1534, Page 283 of the deed records of Garland County, Arkansas. containing 68.59 acres, more or less;

Executed in Washington, DC this 6th day of February, 2004.

David P. Tenny for Mark Rey,

Under Secretary, Natural Resources and Environment.

[FR Doc. 04-6071 Filed 3-25-04; 8:45 am]

BILLING CODE 3410-11-P